DEPARTMENT OF THE TREASURY

Office of the Comptroller of the Currency

FEDERAL DEPOSIT INSURANCE CORPORATION

Agency Information Collection Activities: Submission for OMB Review; Comment Request

AGENCIES: Office of the Comptroller of the Currency (OCC), Treasury; and Federal Deposit Insurance Corporation (FDIC).

ACTION: Joint notice and request for comments.

SUMMARY: The OCC and FDIC (Agencies), as part of their continuing effort to reduce paperwork and respondent burden, invite the public and other Federal agencies to comment on proposed revisions to a continuing information collection, as required by the Paperwork Reduction Act of 1995. The Agencies may not conduct or sponsor, and the respondent is not required to respond to, an information collection unless it displays a currently valid Office of Management and Budget (OMB) control number. The Agencies are soliciting comments on proposed revisions to the information collections titled: “Interagency Bank Merger Act Application.” The General Information and Instructions section has been revised to delete information about the Bank Insurance Fund (BIF), the Savings Association Insurance Fund (SAIF), and the Oakar statutory provisions. In addition, corresponding legal citations on the form to these provisions are being deleted. The Agencies also solicit comment on the renewal without change to the information collections titled: “Interagency Biographical and Financial Report” and “Interagency Notice of Change in Control.” The OCC solicits comment on the renewal without change to its “Interagency Notice of Change in Directors or Senior Executive Officers” information collection. Additionally, the OCC is making other clarifying changes to the Comptroller's Licensing Manual (Manual). The Agencies are also giving notice that the information collection has been submitted to OMB for review.

DATES: You should submit written comments by February 1, 2008.

ADDRESSES: Interested parties are invited to submit comments to any or all of the Agencies and the OMB Desk Officer. All comments, which should refer to the OMB control number, will be shared among the Agencies:

OCC

Communications Division, Office of the Comptroller of the Currency, Public Information Room, Mail Stop 1-5, Attention: 1557-0014, 250 E Street, SW., Washington, DC 20219. In addition, comments may be sent by fax to (202) 874-4448, or by electronic mail to regs.comments@occ.treas.gov. You may personally inspect and photocopy comments at the OCC's Public Information Room, 250 E Street, SW., Washington, DC. For security reasons, the OCC requires that visitors make an appointment to inspect comments. You may do so by calling (202) 874-5043. Upon arrival, visitors will be required to present valid government-issued photo identification and submit to security screening in order to inspect and photocopy comments.

FDIC

Valerie Best, Supervisory Counsel, (202) 898-3812, Legal Division, Federal Deposit Insurance Corporation, 550 17th Street, NW., Washington, DC 20429. All comments should refer to “Interagency Bank Merger Act Application,” the “Interagency Biographical and Financial Report,” or the “Interagency Notice of Change in Control,” as appropriate. Comments may be hand-delivered to the guard station at the rear of the 17th Street Building (located on F Street), on business days between 7 a.m. and 5 p.m. [E-mail address: comments@fdic.gov]. All comments received will be posted without change to http://www.fdic.gov/regulations/laws/federal/notices.html including any personal information provided. Comments may be inspected and photocopied in the FDIC Public Information Center, Room E-1002, 3501 Fairfax Drive, Arlington, VA 22226, between 9 a.m. and 4:30 p.m. on business days.

Additionally, commenters may send a copy of their comments to the OMB Desk Officer for the Agencies by mail to the Office of Information and Regulatory Affairs, U.S. Office of Management and Budget, New Executive Office Building, Room 10235, 725 17th Street, NW., Washington, DC 20503, or by fax to (202) 395-6974.

FOR FURTHER INFORMATION CONTACT: You may request additional information from:

OCC

Mary Gottlieb, OCC Clearance Officer, Legislative and Regulatory Activities Division, Office of the Comptroller of the Currency, 250 E Street, SW., Washington, DC 20219. For subject matter information, you may contact Yoo Jin Na at (202) 874-4604, Licensing Activities, Licensing Department, Office of the Comptroller of the Currency, 250 E Street, SW., Washington, DC 20219.

FDIC

Valerie Best, Supervisory Counsel, (202) 898-3812, Legal Division, Federal Deposit Insurance Corporation, 550 17th Street, NW., Washington, DC 20429.

SUPPLEMENTARY INFORMATION: Proposal to extend for three years, with revision, the following currently approved collections of information:

OCC's Information Collection Title: Comptroller's Licensing Manual (Manual). The specific portions of the Manual covered by this notice are those that pertain to the “Business Combinations,” “Branches and Relocations,” “Capital and Dividends,” “Charters,” “Change in Bank Control,” “Comments to Other Agencies,” “General Policies and Procedures,” “Investment in Bank Premises,” “Investment in Subsidiaries and Equities,” “Management Interlocks,” and “Public Notice and Comments” booklets of the Manual and various portions to which the OCC is making technical and clarifying changes.

All Agencies' Report Title and FDIC's Information Collection Title: Interagency Bank Merger Act Application.

All Agencies' Report Titles and FDIC's Information Collection Title: Interagency Biographical and Financial Report and Interagency Notice of Change in Control.

OCC Report Title: Interagency Notice of Change in Directors or Senior Executive Officers.

OMB Numbers:

OCC: 1557-0014.

FDIC: Interagency Bank Merger Act Application, 3064-0015; Interagency Biographical and Financial Report, 3064-0006; Interagency Notice of Change in Control, 3064-0019.

Form Numbers:

OCC: None.

FDIC: Interagency Bank Merger Act Application, 6220/01 and 6220/07; Interagency Notice of Change in Control, Form 6822/01; Interagency Biographical and Financial Report, Form 6200/06.

Affected Public: Individuals or households; Businesses or other for-profit.

Type of Review: Revision or renewal of currently approved collections.

Estimated Number of Respondents:

OCC: Interagency Bank Merger Act Application—152; Interagency Biographical and Financial Report—450; Interagency Notice of Change in Directors or Senior Executive Officers—150; Interagency Notice of Change in Control—13.

FDIC: Interagency Bank Merger Act Application—275; Interagency Biographical and Financial Report—1,769; Interagency Notice of Change in Control—27.

Frequency of Response: On occasion.

Estimated Annual Burden Hours per Response:

OCC: Interagency Bank Merger Act Application—23.5; Interagency Biographical and Financial Report—4; Interagency Notice of Change in Directors or Senior Executive Officers—2; Interagency Notice of Change in Control—30.

FDIC: Interagency Bank Merger Act Application—23.5; Interagency Biographical and Financial Report—4; Interagency Notice of Change in Control—30.

Estimated Total Annual Burden Hours:

OCC: Interagency Bank Merger Act Application—3,572; Interagency Biographical and Financial Report—1,800; Interagency Notice of Change in Directors or Senior Executive Officers—300; Interagency Notice of Change in Control—510. Total: 6,182 burden hours.

FDIC: Interagency Bank Merger Act Application—6,463; Interagency Biographical and Financial Report—7,076; Interagency Notice of Change in Control—810.

Total: 14,349 burden hours.

General Description of Report

These information collections are mandatory. Interagency Bank Merger Act Application: 12 U.S.C. 1828(c), 1815(a), 12 U.S.C. 215, 215a-c. Interagency Biographical and Financial Report: 12 U.S.C. 1814, 1816, 1817(j), 2903, and 4804. Interagency Notice of Change in Directors or Senior Executive Officers: 12 U.S.C. 1831i; Interagency Notice of Change in Control: 12 U.S.C. 1817(j) and 4804. The notices and reporting form are treated as public documents. The organizations and individuals that use the forms may request that all or a portion of the submitted information be kept confidential. In such cases, the burden is on the filer to justify the exemption by demonstrating that disclosure would cause “substantial competitive harm” or result in “an unwarranted invasion of personal privacy” or would otherwise qualify for an exemption under the Freedom of Information Act (5 U.S.C. 552). The confidentiality status of the information submitted will be judged on a case-by-case basis.

Abstract

The OCC, FDIC, Office of Thrift Supervision (OTS), and the Board of Governors of the Federal Reserve System (Board) each use the Interagency Bank Merger Act Application form to collect information for bank merger proposals that require prior approval under the Bank Merger Act. Prior approval is required for every merger transaction involving affiliated or nonaffiliated institutions and must be sought from the regulatory agency of the depository institution that would survive the proposed transaction. A merger transaction may include a merger, consolidation, assumption of deposit liabilities, or certain asset-transfers between or among two or more institutions. The information collected by the remaining notifications and forms assist the regulatory agency in fulfilling their statutory responsibilities as supervisors. The regulatory agency uses the information to evaluate the controlling owners, senior officers, and directors of the insured depository institutions subject to their oversight.

Current Actions

This submission covers a revision to the Agencies' Interagency Bank Merger Act Application. The General Information and Instructions section of the application would be revised based on the passage of the Federal Deposit Insurance Reform Act of 2005, enacted on February 8, 2006. Provisions of the legislation directed the FDIC to merge the Bank Insurance Fund and the Savings Association Insurance Fund to form the new Deposit Insurance Fund, which subsequently merged on March 31, 2006. The formation of the single insurance fund eliminated the need for two types of insurance-related applications that existed to allow certain depository institutions to convert their coverage from one insurance fund to another. Accordingly, references in the Instructions to the previously required applications have been deleted. Also, the legal citations on page 1 of the application form, that correspond to the previously required application have been deleted (previously 12 U.S.C. 1815(d)(2), 1815(d)(3)). There are no other proposed changes to this information collection. Additionally, each of the Agencies proposes to renew two other forms, Interagency Biographical and Financial Report and the Interagency Notice of Change in Control, with no changes. The OCC proposes to renew, with no changes, one additional form, the Interagency Notice of Change in Directors or Senior Executive Officers. The Agencies need the information from these forms to ensure that the proposed transactions are permissible under law and regulation and are consistent with safe and sound banking practices. The Board published a separate Federal Register notice (72 FR 39428 (July 18, 2007)) and the OTS plans to publish a notice requesting public comment on these revisions.

Comments

The Agencies issued a 60-day notice seeking comment on the collection on August 8, 2007 (72 FR 44220). No comments were received.

Written comments continue to be invited on:

a. Whether the information collection is necessary for the proper performance of the Agencies' functions, including whether the information has practical utility;

b. The accuracy of the Agencies' estimates of the burden of the information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Dated: December 14, 2007.
Stuart Feldstein,
Assistant Director, Legislative and Regulatory Activities Division, Office of the Comptroller of the Currency.

Dated at Washington, DC, this 19th day of December, 2007.
Valerie J. Best,
Assistant Executive Secretary.

FDIC: 6714-01-P (50%)

[FR Doc. E7-25463 Filed 12-31-07; 8:45 am]

BILLING CODE 4810-33-P (50%); 6714-01-P (50%)